NATIONAL SCIENCE FOUNDATION

Request for Information on the National Spectrum Research and Development Plan

AGENCY: Networking and Information Technology Research and Development (NITRD) National Coordination Office (NCO), National Science Foundation.

ACTION: Request for information.

SUMMARY: Pursuant to the Presidential Memorandum on Modernizing United States Spectrum Policy and Establishing a National Spectrum Strategy, November 13, 2023, the Secretary of Commerce, acting through the National Telecommunications and Information Administration (NTIA), released a National Spectrum Strategy (Strategy), November 13, 2023. The word “spectrum” in this context refers to the radio frequency portion of the electromagnetic spectrum. Strategic Objective 3.2 of the Strategy directs the U.S. Government, through the White House Office of Science and Technology Policy (OSTP) and in coordination with the Federal agencies, to develop a National Spectrum Research and Development Plan (R&D Plan). On behalf of OSTP, NITRD NCO seeks public input for the creation of the R&D Plan. The R&D Plan will act as an organizing national document, providing guidance for government investments in spectrum-related research and offering valuable insights. The R&D Plan will identify key innovation areas for spectrum research and development and will include a process to refine and enhance these areas on an ongoing basis.

DATES: Interested persons are invited to submit comments on or before 11:59 p.m. (ET) on March 21, 2024.

ADDRESSES: Comments submitted in response to this RFI may be sent by any of the following methods:

• Email: SpectrumRnDplanRFI@nitrd.gov; Email submissions should be machine-readable and not be copy-protected. Submissions should include “RFI Response: National Spectrum R&D Plan” in the subject line of the message.

• Fax: 202-459-9673, Attn: Mallory Hinks; or

• Mail: Attn: Mallory Hinks, 2415 Eisenhower Avenue, Alexandria, VA 22314, USA.

Instructions: Response to this RFI is voluntary. Each individual or institution is requested to submit only one response. Submissions must not exceed 10 pages in 12 point or larger font, with a page number provided on each page. Responses must include the name of the person(s) or organization(s) filing the comment and the following statement: “This document is approved for public dissemination. The document contains no business-proprietary or confidential information. Document contents may be reused by the government in the National Spectrum R&D Plan and associated documents without attribution.” Responses to this RFI may be posted online at https://www.nitrd.gov/. Therefore, we request that no business proprietary information, copyrighted information, or sensitive personally identifiable information be submitted as part of your response to this RFI. In accordance with FAR 15.202(3), responses to this notice are not offers and cannot be accepted by the Government to form a binding contract. Responders are solely responsible for all expenses associated with responding to this RFI.

FOR FURTHER INFORMATION CONTACT: Mallory Hinks at SpectrumRnDplanRFI@nitrd.gov or (202) 459-9674. Individuals who use a telecommunications device for the deaf (TDD) may call the Federal Information Relay Service (FIRS) at 1-800-877-8339 between 8 a.m. and 8 p.m., eastern time, Monday through Friday, except for U.S. Federal Government holidays.

SUPPLEMENTARY INFORMATION: The National Spectrum Strategy (Strategy), November 13, 2023, Strategic Objective 3.2 directs the U.S. Government, through the White House Office of Science and Technology Policy and in coordination with the Federal agencies, to develop a National Spectrum Research and Development Plan (R&D Plan). The R&D Plan will act as an organizing national document, providing guidance for government investments in spectrum-related research and offering valuable insights. The plan will identify key innovation areas for spectrum research and development and will include a process to refine and enhance these areas on an ongoing basis.

OSTP has tasked the NITRD Wireless Spectrum Research and Development Interagency Working Group (WSRD IWG) to draft and coordinate development of the National Spectrum R&D Plan. The R&D Plan is expected to be released in late 2024. Revisions will occur periodically.

The NITRD WSRD IWG requests input from the public, including academia and industry, to assist in development of the National Spectrum R&D Plan.

Topics: We encourage responses to be organized according to the following outline, although we also welcome responses that address only a subset of the items below. Submitters are encouraged to address the topics of this RFI clearly and concisely. Submitted information that does not directly address the RFI may be disregarded.

1. Recommendations on strategies for conducting spectrum research in a manner that minimizes unnecessary duplication, ensures that all essential spectrum research areas are sufficiently explored, and achieves measurable advancements in state-of-the-art spectrum science and engineering. This includes, but is not limited to, the following:

• Methods/approaches to increase coordinated investment in R&D amongst government agencies, academia, civil society, and the private sector

• Structural and process improvements in the organization and promotion of Federal and non-Federal spectrum R&D

2. Recommended priority areas for spectrum research and development, as well as productive directions for advancing the state-of-the-art in those areas. Areas of interest include, but are not limited to, the following:

• Spectrum utilization efficiency

• Spectrum resilience and assured access for critical mission applications and passive scientific observation

• Dynamic spectrum access and management

• Spectrum situational awareness at scale

• Automatic and rapid mitigation of interference problems

• Modeling for coexistence analysis

Topics relevant to each of the above include, but are not limited to, the following:

• Technical methods, designs, and processes

• Economic-, market-, social-, and human-centric concerns

• Business and economic models

• Protection of citizen privacy, sensitive government missions, and business proprietary data

• Cost-effective hardware supporting more dynamic spectrum usage

• Use of artificial intelligence and machine learning techniques

• Testbed development

• Assessment and certification of advanced systems

3. Recommendations on grand challenge problems for spectrum R&D. Grand challenges are selected research problems that if attacked will help motivate and coalesce R&D efforts. Such problems have the following characteristics:

• The goal can be concisely articulated to stakeholders outside the field

• Success or failure is clear

• Achieving success requires advancing the state-of-the-art in multiple areas

4. Recommendations on spectrum R&D accelerators such as the following:

• Shared public datasets

• Open-source software/projects

• Cost-effective flexible radio platforms

• Benchmarks and competitions

• Testbeds, research infrastructure, and collaboration support

5. Recommendations on near-term Federal activities to make progress towards anything identified in responses 1-4.

6. Recommendations on a process to refine and enhance the R&D plan on an ongoing basis.

7. Terminology and definitions relevant for spectrum R&D.

• One term of interest is “Dynamic Spectrum Sharing” which is a focus of the National Spectrum Strategy but was not defined.

8. Other topics.

Next steps: The NITRD WSRD IWG will consider submissions to this RFI when preparing the National Spectrum R&D Plan. The NITRD WSRD IWG will not provide responses to submissions. Submissions may be posted to the NITRD website listed above for public review. An open to the public meeting will be held in May 2024, for community engagement with the NITRD WSRD IWG on the R&D Plan. A notice of this meeting with how to participate will be published in the Federal Register and on the NITRD WSRD IWG web page, https://www.nitrd.gov/coordination-areas/wsrd/.

References

• Presidential Memorandum on Modernizing United States Spectrum Policy and Establishing a National Spectrum Strategy, https://www.whitehouse.gov/briefing-room/presidential-actions/2023/11/13/memorandum-on-modernizing-united-states-spectrum-policy-and-establishing-a-national-spectrum-strategy/.

• National Spectrum Strategy, https://www.ntia.gov/sites/default/files/publications/national_spectrum_strategy_final.pdf.

Submitted by the National Science Foundation in support of the Networking and Information Technology Research and Development (NITRD) National Coordination Office (NCO) on February 14, 2024.

(Authority: 42 U.S.C. 1861.)

Suzanne H. Plimpton,
Reports Clearance Officer, National Science Foundation.

[FR Doc. 2024-03400 Filed 2-16-24; 8:45 am]

BILLING CODE 7555-01-P